DEPARTMENT OF ENERGY

Federal Energy Regulatory Commission

[Docket No. RP03-482-000]

Panhandle Eastern Pipe Line Company and Panhandle Eastern Pipe Line Company, LLC; Notice of Proposed Changes in FERC Gas Tariff

May 30, 2003.

Take notice that on May 23, 2003, Panhandle Eastern Pipe Line Company (Panhandle) tendered for filing as part of its FERC Gas Tariff, Second Revised Volume No. 1, the tariff sheets listed on Appendix A to the filing, to reflect a change in corporate name and corporate form.

Panhandle states that the revised tariff sheets reflect a name change that is planned to occur on June 23, 2003. Panhandle states that on June 23, 2003, it plans to convert from a corporation to a limited liability company and change its corporate name to Panhandle Eastern Pipe Line Company, LLC.

Panhandle states that a copy of this filing has been mailed to all affected customers and interested state commissions, and that copies of the revised tariff sheets will be provided upon request.

Any person desiring to be heard or to protest said filing should file a motion to intervene or a protest with the Federal Energy Regulatory Commission, 888 First Street, NE., Washington, DC 20426, in accordance with Sections 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: June 4, 2003.

Magalie R. Salas,
Secretary.

[FR Doc. 03-14242 Filed 6-5-03; 8:45 am]

BILLING CODE 6717-01-P